DEPARTMENT OF THE INTERIOR

Bureau of Land Management

[LLID9570000.LL14200000.BJ0000]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat constituting the dependent resurvey of a portion of the Fifth Standard Parallel North (south boundary) and the subdivisional lines, and the subdivision of sections 33 and 34, T. 22 North, R. 22 East, of the Boise Meridian, Idaho, Group Number 1287, was accepted October 19, 2010.

The plat constituting the dependent resurvey of a portion of the subdivisional lines, and the subdivision of sections 27 and 34, and a metes-and-bounds survey of the centerline of the right-of-way of Idaho State Highway Route 75, in sections 27 and 34, T. 2 South, R. 18 East, of the Boise Meridian, Idaho, Group Number 1286, was accepted October 20, 2010.

The plat constituting the dependent resurvey of portions of the Fifth Standard Parallel North (south boundary) and the subdivisional lines, and the subdivision of sections 22, 27, 28 and 33, T. 22 North, R. 23 East, of the Boise Meridian, Idaho, Group Number 1288, was accepted November 1, 2010.

The plat constituting the dependent resurvey of portions of the east boundary, subdivisional lines, and the subdivision of sections 1, 11, and 12, and the further subdivision of section 11 in T. 9 S., R. 6 W., of the Boise Meridian, Idaho, Group Number 1289, was accepted November 10, 2010.

The plat constituting the dependent resurvey of portions of the south and west boundaries, subdivisional lines and subdivision of section 18, and the subdivision of sections 19, 30, and 31, in T. 2 S., R. 9 E., of the Boise Meridian, Idaho, Group Number 1295, was accepted December 3, 2010.

The plat constituting the dependent resurvey of portions of the east boundary and subdivisional lines, and the subdivision of sections 13, 23, and 24, in T. 2 S., R. 8 E., of the Boise Meridian, Idaho, Group Number 1296, was accepted December 3, 2010.

These surveys were executed at the request of the Bureau of Indian Affairs to meet their administrative needs. The lands surveyed are:

The plat representing the subdivision of section 33, and the metes-and-bounds survey of certain tracts that identify Indian Allotments established by the U.S. Indian Service during 1910-1915, in sections 12, 13, 14, 20, 21, 22, 23, 24, 25, 26, 27, 34, 35, and 36, T. 4 South, R. 35 East, Boise Meridian, Idaho, Group Number 1290, was accepted November 10, 2010.

Dated: January 11, 2011.
Stanley G. French,
Chief Cadastral Surveyor for Idaho.

[FR Doc. 2011-1741 Filed 1-26-11; 8:45 am]

BILLING CODE 4310-GG-P